FEDERAL RESERVE SYSTEM

Consumer Advisory Council

ACTION: Notice of Meeting of Consumer Advisory Council

The Consumer Advisory Council will meet on Thursday, June 26, 2003. The meeting, which will be open to public observation, will take place at the Federal Reserve Board's offices in Washington, D.C., in Dining Room E on the Terrace level of the Martin Building. Anyone planning to attend the meeting should, for security purposes, register no later than Tuesday, June 24, by completing the form found on-line at: https://www.federalreserve.gov/secure/forms/cacregistration.cfm

Additionally, attendees must present photo identification to enter the building.

The meeting will begin at 9:00 a.m. and is expected to conclude at 1:00 p.m. The Martin Building is located on C Street, NW, between 20th and 21st Streets.

The Council's function is to advise the Board on the exercise of the Board's responsibilities under various consumer financial services laws and on other matters on which the Board seeks its advice. Time permitting, the Council will discuss the following topics:

Fair Credit Reporting Act: Discussion of the renewal of federal preemption of state laws, set to expire at year-end.

Financial Privacy: Discussion of standardized short-form privacy notices that institutions could provide to customers about the institutions' privacy policies.

Predatory Lending: Discussion of responsible lending programs and products to counter predatory lending.

Issuance of Debit and Credit Cards: Discussion of rules for unsolicited issuance of debit cards under Regulation E (Electronic Fund Transfer Act) and credit cards under Regulation Z (Truth in Lending Act) - specifically whether card issuers should be permitted to issue at any time unsolicited, activated, supplemental debit or credit cards to current cardholders.

Committee Reports: Council committees will report on their work.

Other matters initiated by Council members also may be discussed.

Persons wishing to submit views to the Council on any of the above topics may do so by sending written statements to Ann Bistay, Secretary of the Consumer Advisory Council, Division of Consumer and Community Affairs, Board of Governors of the Federal Reserve System, Washington, DC 20551. Information about this meeting may be obtained from Ms. Bistay, 202-452-6470.

Board of Governors of the Federal Reserve System, May 29, 2003.

Jennifer J. Johnson
Secretary of the Board

[FR Doc. 03-13933 Filed 6-3-03; 8:45 am]

BILLING CODE 6210-01-S